DEPARTMENT OF DEFENSE

Department of the Air Force

[Docket ID USAF-2014-0014]

Proposed Collection; Comment Request

AGENCY: Department of the Air Force, DoD.

ACTION: Notice.

SUMMARY: In compliance with the Paperwork Reduction Act of 1995, the Department of the Air Force announces a proposed public information collection and seeks public comment on the provisions thereof. Comments are invited on: (a) whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by December 14, 2015.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Air Force Office of Scientific Research, AFOSR/RSPP, 875 North Randolph Street, Suite 325, Room 3112, Arlington, VA 22203.

SUPPLEMENTARY INFORMATION: Title; Associated Form; and OMB Number: DoD National Defense Science and Engineering Graduate (NDSEG) Fellowships Program; National Defense Science and Engineering Graduate Fellowship Application; OMB Control Number 0701-0154.

Needs and Uses: Support of Science, Mathematics, and Engineering Education, 10 U.S.C. 2191, states that “the Secretary of Defense shall prescribe regulations providing for the award of fellowships to citizens and nationals of the United States who agree to pursue graduate degrees in science, engineering or other fields of study designed by the Secretary (Of Defense) to be priority interest to the DoD. Recipients shall be selected on the basis of nationwide competition. The DoD is committed to increasing the number of quality of the nation's scientists and engineers. Application information will be used for evaluation and selection of students to be awarded fellowships. Failure to respond renders the student ineligible for a fellowship.

Affected Public: Individuals or households.

Annual Burden Hours: 36,000 hours.

Number of Respondents: 3,000.

Responses per Respondent: 1.

Annual Responses: 3,000.

Average Burden per Response: 12 hours.

Frequency: Annually.

Respondents are students enrolled in doctoral programs in science and engineering desiring to complete their education. The on-line, electronic application provides information necessary for evaluation and selection of fellowships.

The NDSEG fellowships allow recipients to pursue their graduate studies at whichever United States institution they choose to attend. The goal is to provide the United States with talented, doctorally trained American men and women who will lead state of the art research projects in disciplines having the greatest payoff to national defense requirements. Approximately 190-200 3-year fellowships are anticipated to be awarded in the fields of Aeronautical and Astronautical Engineering, Biosciences, Chemical Engineering, Chemistry, Civil Engineering, Cognitive, Neural, and Behavioral Sciences, Computer and Computational Sciences, Electrical Engineering, Geosciences, Material Science and Engineering, Mathematics, Mechanical Engineering, Naval Architecture and Ocean Engineering, Oceanography, and Physics.

Dated: October 5, 2015.
Aaron Siegel,
Alternate OSD Federal Register Liaison Officer, Department of Defense.

[FR Doc. 2015-25815 Filed 10-9-15; 8:45 am]

BILLING CODE 5001-06-P